DEPARTMENT OF TRANSPORTATION

Federal Aviation Administration

Notice of Approval of the Record of Decision (ROD) for the Final Environmental Impact Statement (FEIS) and Section 4(f) Evaluation for Proposed Development Activities at the Juneau International Airport, Juneau, AK

AGENCY: Federal Aviation Administration (FAA), Department of Transportation (DOT).

ACTION: Notice of approval of the Record of Decision.

SUMMARY: The Federal Aviation Administration is announcing the approval of the Record of Decision (ROD) for the Final Environmental Impact Statement (FEIS) and Section 4(f) Evaluation for Proposed Development Activities at the Juneau International Airport (JNU). The ROD provides final agency determinations and approval for the proposed development.

FOR FURTHER INFORMATION CONTACT: Patti Sullivan, Environmental Specialist, Federal Aviation Administration, Alaskan Region, Airports Division, 222 W. 7th Avenue #14, Anchorage, AK, 99513-7504. Ms. Sullivan may be contacted during business hours at (907) 271-5454 (phone) and (907) 271-2851 (facsimile).

SUPPLEMENTARY INFORMATION: The ROD is for approval of actions for runway safety area improvements, navigational improvements, a snow removal equipment and maintenance facility, fuel farm access, aviation facilities development, and wildlife hazard management. The ROD also approves connected actions for relocation of the remote communications outlet (RCO) and automated surface observation system (ASOS). The ROD provides the final agency determination and approvals for Federal actions by the FAA related to the selection of alternatives to meet the purpose and need for each action. The ROD also includes required mitigation measures and conditions of approval.

The ROD indicates that the selected actions are consistent with existing environmental policies and objectives set forth in the National Environmental Policy Act (NEPA) of 1969, as amended, as well as federal, state and local statutes, and that the actions will significantly affect the quality of the environment. The FAA's decision is based upon information contained in the FEIS, issued in April 2007, and on all other applicable documents available to the agency and considered by it, which constitutes the administrative record.

The FAA's determination are discussed in the ROD, which was approved on July 6, 2007.

Rod Availability

The ROD may be viewed at the following Web site: http://www.jnu-eis.org.
Issued in Anchorage, Alaska, on July 10, 2007.
Debbie Roth,
Acting Manager, Airports Division, Alaskan Region.

[FR Doc. 07-3718 Filed 7-30-07; 8:45 am]

BILLING CODE 4910-13-M